DEPARTMENT OF EDUCATION

34 CFR Parts 612 and 686

[Docket ID ED-2014-OPE-0057]

RIN 1840-AD07

Teacher Preparation Issues

Correction

In rule document 2016-24856 beginning on page 75494 in the issue of Monday, October 31, 2016, make the following correction:

On page 75494, in the first column, the DATES section should read as follows:

DATES: The regulations in 34 CFR part 612 are effective November 30, 2016. The amendments to part 686 are effective on July 1, 2017, except for amendatory instructions 4.A., 4.B., 4.C.iv., 4.C.x. and 4.C.xi., amending 34 CFR 686.2(d) and (e), which are effective on July 1, 2021.

[FR Doc. C1-2016-24856 Filed 11-16-16; 8:45 am]

BILLING CODE 1301-00-D